DEPARTMENT OF TRANSPORTATION

Federal Aviation Administration

14 CFR Part 39

[Docket No. FAA-2007-0175; Directorate Identifier 2007-NM-184-AD; Amendment 39-15766; AD 2008-25-08]

RIN 2120-AA64

Airworthiness Directives; Boeing Model 757 Airplanes

AGENCY: Federal Aviation Administration (FAA), DOT.

ACTION: Final rule.

SUMMARY: We are adopting a new airworthiness directive (AD) for certain Boeing Model 757 airplanes. This AD requires changing the wiring of the fuel boost pump and doing other specified actions. This AD results from reports of short circuits in an electrical connector at the wing-to-body electrical disconnect panel. We are issuing this AD to prevent a short circuit of the electrical connector for the fuel boost pump, which could cause the instruments for fuel, flap, slat, and aileron systems to malfunction and create a potential ignition source inside the fuel tanks. A potential ignition source inside the fuel tank in combination with flammable fuel vapors could result in a fuel tank explosion and consequent loss of the airplane.

DATES: This AD is effective January 15, 2009.

The Director of the Federal Register approved the incorporation by reference of certain publications listed in this AD as of January 15, 2009.

ADDRESSES: For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip Sheridan, Aerospace Engineer, Systems and Equipment Branch, ANM-130S, FAA, Seattle Aircraft Certification Office, 1601 Lind Avenue, SW., Renton, Washington 98057-3356; telephone (425) 917-6441; fax (425) 917-6590.

SUPPLEMENTARY INFORMATION:

Discussion

We issued a notice of proposed rulemaking (NPRM) to amend 14 CFR part 39 to include an airworthiness directive (AD) that would apply to certain Boeing Model 757 airplanes. That NPRM was published in the Federal Register on November 9, 2007 (72 FR 63512). That NPRM proposed to require changing the wiring of the fuel boost pump and doing other specified actions.

Comments

We gave the public the opportunity to participate in developing this AD. We considered the comments received.

Request To Incorporate Revised Service Information

Boeing asks that we refer to Boeing Special Attention Service Bulletins 757-28-0095 and 757-28-0096, both Revision 1, both dated June 4, 2008, in the final rule. Boeing Special Attention Service Bulletins 757-28-0095 and 757-28-0096, both dated June 18, 2007, were referred to in the NPRM as the appropriate sources of service information for accomplishing the actions specified.

We have reviewed Revision 1 of these referenced service bulletins and we agree with the commenter since no additional work is necessary on airplanes changed in accordance with the original issue of the referenced service information. Revision 1 of these service bulletins clarifies certain procedures and certain routing and splice locations. We have added Revision 1 of these service bulletins to the applicability specified in paragraphs (c)(1) and (c)(2) of this AD, and to paragraph (f) of this AD, as the appropriate sources of service information for accomplishing the actions specified. In addition, we have added credit to paragraph (f) for previously accomplishing the actions using the original issue of the service bulletins.

Request To Change Airplane Manufacturer's Name

Boeing asks that the airplane manufacturer's name specified in the product identification section of the regulatory text of the NPRM be changed from “Airbus” to “Boeing.”

We agree that the airplane manufacturer's name should be changed, as this was an inadvertent error in the NPRM; we have changed the name in that paragraph of the AD accordingly.

Request To Allow Alternate Routing of Wiring

Continental Airlines (CAL) refers to Figure 2 of Boeing Special Attention Service Bulletin 757-28-0095, dated June 18, 2007, and states that it would be easier and more appropriate when doing the wire modification to utilize one of the open holes in the panel instead of splicing the wires for this location. CAL adds that the splice locations for the left-hand aft and right-hand aft boost pumps, as shown in Boeing Special Attention Service Bulletins 757-28-0095 and 757-28-0096, both dated June 18, 2007, are incorrect and the splices cannot be accomplished in those areas. CAL recommends that these service bulletins be revised with the proper alternative rework instructions for the subject discrepancies.

We have reviewed the referenced service information and we do not agree that the splices cannot be accomplished in the locations referred to in the comment. In addition, we have determined that clarification of certain routing and splice locations is helpful, and that clarification is provided in Revision 1 of the referenced service bulletins, as noted previously. We infer that CAL is also asking us to allow alternative routing of the wiring to that specified in the referenced service bulletins. Under the provisions of paragraph (g) of this AD, we will consider requests for approval of an AMOC if sufficient data are submitted to substantiate that the alternative routing of the wiring would provide an acceptable level of safety. We have made no change to the AD in this regard.

Conclusion

We reviewed the relevant data, considered the comments received, and determined that air safety and the public interest require adopting the AD with the changes described previously. We also determined that these changes will not increase the economic burden on any operator or increase the scope of the AD.

Costs of Compliance

There are 1,697 airplanes of the affected design in the worldwide fleet. This AD affects about 673 airplanes of U.S. registry. The required actions take up to 12 work hours per airplane, at an average labor rate of $80 per work hour. Based on these figures, the estimated cost of the AD for U.S. operators is up to $646,080, or up to $960 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-25-08 Boeing: Amendment 39-15766. Docket No. FAA-2007-0175; Directorate Identifier 2007-NM-184-AD.

Effective Date

(a) This airworthiness directive (AD) is effective January 15, 2009.

Affected ADs

(b) None.

Applicability

(c) This AD applies to the airplanes identified in paragraphs (c)(1) and (c)(2) of this AD, certificated in any category.

(1) Boeing Model 757-200, -200PF, and -200CB series airplanes, as identified in Boeing Special Attention Service Bulletin 757-28-0095, Revision 1, dated June 4, 2008.

(2) Boeing Model 757-300 series airplanes, as identified in Boeing Special Attention Service Bulletin 757-28-0096, Revision 1, dated June 4, 2008.

Unsafe Condition

(d) This AD results from reports of short circuits in an electrical connector at the wing-to-body electrical disconnect panel. We are issuing this AD to prevent a short circuit of the electrical connector for the fuel boost pump, which could cause the instruments for the fuel, flap, slat, and aileron systems to malfunction and create a potential ignition source inside the fuel tank. A potential ignition source inside the fuel tank in combination with flammable fuel vapors could result in a fuel tank explosion and consequent loss of the airplane.

Compliance

(e) You are responsible for having the actions required by this AD performed within the compliance times specified, unless the actions have already been done.

Fuel Boost Pump Wiring Change

(f) Within 60 months after the effective date of this AD, change the wiring of the fuel boost pump and do all other specified actions as applicable, by accomplishing all of the applicable actions specified in the Accomplishment Instructions of Boeing Special Attention Service Bulletin 757-28-0095 (for Model 757-200, -200PF, and -200CB series airplanes) or 757-28-0096 (for Model 757-300 series airplanes), both Revision 1, both dated June 4, 2008; as applicable. The other specified actions must be done before further flight after changing the fuel boost pump wiring. Actions accomplished before the effective date of this AD in accordance with Boeing Special Attention Service Bulletin 757-28-0095 or 757-28-0096, both dated June 18, 2007, are considered acceptable for compliance with the corresponding actions in this paragraph.

Alternative Methods of Compliance (AMOCs)

(g)(1) The Manager, Seattle Aircraft Certification Office (ACO), FAA, ATTN: Philip Sheridan, Aerospace Engineer, Systems and Equipment Branch, ANM-130S, FAA, Seattle Aircraft Certification Office, 1601 Lind Avenue, SW., Renton, Washington 98057-3356; telephone (425) 917-6441; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 757-28-0095, Revision 1, dated June 4, 2008; or Boeing Special Attention Service Bulletin 757-28-0096, Revision 1, dated June 4, 2008; as applicable; to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

(3) You may review copies of the service information that is incorporated by reference at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on November 28, 2008.
Ali Bahrami,
Manager, Transport Airplane Directorate, Aircraft Certification Service.

[FR Doc. E8-29079 Filed 12-10-08; 8:45 am]

BILLING CODE 4910-13-P